DEPARTMENT OF EDUCATION

Office of Special Education and Rehabilitative Services National Institute on Disability and Rehabilitation Research—Disability and Rehabilitation Research Projects and Centers Program—Disability Rehabilitation Research Projects (DRRPs)

ACTION: Notice of final priorities; correction.

SUMMARY: On June 2, 2006, we published in the Federal Register (71 FR 32195) a notice of final priorities for the Disability and Rehabilitation Research Projects and Centers Program—Disability Rehabilitation Research Projects (DRRPs). The notice contained incorrect information about the number of outcomes a DRRP must meet under the priority on Rehabilitation of Children with Traumatic Brain Injury. The information on page 32202 is corrected to read as follows:

Rehabilitation of Children With Traumatic Brain Injury (TBI)

Priority

The Assistant Secretary for Special Education and Rehabilitative Services establishes a priority for the funding of a Disability Rehabilitation Research Project (DRRP) on the Rehabilitation of Children with Traumatic Brain Injury (TBI). Under this priority, the DRRP must be designed to contribute to one or more of the following outcomes:

(a) Improved physical, cognitive, social/behavioral, family, educational, or employment outcomes for children with TBI by developing or testing rehabilitation interventions, the measures needed to assess the effectiveness of rehabilitation interventions, or both.

(b) Improved transition of children from health care facilities to school and community by developing or testing effective transition strategies, the measures needed to assess the effectiveness of transition strategies, or both.

(c) Improved TBI screening and special education services for children by developing or testing methods and procedures for use in school settings.

Electronic Access to This Document: You may view this document, as well as all other documents of this Department published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

Dated: July 7, 2006.
Andrew J. Pepin,
Executive Administrator, Office of Special Education and Rehabilitative Services.

[FR Doc. E6-11057 Filed 7-12-06; 8:45 am]

BILLING CODE 4000-01-P